FEDERAL COMMUNICATIONS COMMISSION

47 CFR Part 73

[DA 00-1260; MM Docket No. 00-107; RM-9891]

Radio Broadcasting Services; Florence and Comobabi, AZ

AGENCY: Federal Communications Commission.

ACTION: Proposed rule.

SUMMARY: This document requests comments on a petition for rule making filed on behalf of Desert West Air Ranchers Corporation, licensee of FM Station KCDX, Channel 276C1, Florence, Arizona, requesting the substitution on Channel 276C for Channel 276C1 and modification of its authorization accordingly. Additionally, to accommodate the request, petitioner seeks the deletion of vacant reserved Channel *275A at Comobabi, Arizona, or its replacement with Channel *289A. Coordinates used for Channel 276C at Florence, Arizona, are 32-48-45 NL and 110-57-30 WL; coordinates used for Channel *289A at Comobabi, Arizona are 32-03-29 NL and 111-47-58 WL. As Florence and Comobabi are each located within 320 kilometers (199 miles) of the U.S.-Mexico border, concurrence of the Mexican government to the requested use of Channel 276C at Florence and Channel *289A at Comobabi, as specially negotiated restricted allotments is required.

DATES: Comments must be filed on or before July 31, 2000, and reply comments on or before August 15, 2000.

ADDRESSES: Secretary, Federal Communications Commission, Washington, DC 20554. In addition to filing comments with the FCC, interested parties should serve the petitioner's counsel, as follows: Mark N. Lipp, Esq., Shook, Hardy & Bacon, 600 14th Street, NW., Suite 800, Washington, DC 20005-2004.

FOR FURTHER INFORMATION CONTACT: Nancy Joyner, Mass Media Bureau, (202) 418-2180.

SUPPLEMENTARY INFORMATION: This is a synopsis of the Commission's Notice of Proposed Rule Making, MM Docket No. 00-107, adopted May 31, 2000, and released June 9, 2000. The full text of this Commission decision is available for inspection and copying during normal business hours in the FCC's Reference Information Center (Room CY-A257), 445 Twelfth Street, SW., Washington, DC. The complete text of this decision may also be purchased from the Commission's copy contractor, International Transcription Service, Inc., 1231 20th Street, NW., Washington, DC 20036, (202) 857-3800.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, See 47 CFR 1.415 and 1.420.

Federal Communications Commission.
John A. Karousos,
Chief, Allocations Branch, Policy and Rules Division, Mass Media Bureau.

[FR Doc. 00-16683 Filed 6-30-00; 8:45 am]

BILLING CODE 6712-01-P